DEPARTMENT OF AGRICULTURE

Agricultural Marketing Service

[Docket No. AMS-LPS-16-0006]

U.S. Standards for Grades of Catfish and Catfish Products.

AGENCY: Agricultural Marketing Service, USDA.

ACTION: Notice, request for comments.

SUMMARY: The Agricultural Marketing Service (AMS) invites catfish producers, suppliers, processors, retailers, foodservice operators, and other interested stakeholders to provide background information, comments, and data to assist in the development of voluntary U.S. Standards for Grades of Catfish and Catfish Products. AMS is requesting comments concerning, but not limited to, the catfish quality standard that is currently implemented by the Department of Commerce (DOC), National Oceanic and Atmospheric Administration (NOAA), and National Marine Fisheries Service (NMFS).

DATES: Comments, information, and data relating to this notice are due no later than September 12, 2016.

ADDRESSES: Interested persons are invited to submit comments, information, and data relating to this notice by using the electronic process available at http://www.regulations.gov, or email: catfishgrading@ams.usda.gov. Written comments, information, and data may also be submitted to Catfish Grade Standards, Quality Assessment Division (QAD), 1400 Independence Avenue SW., Stop 0258, Room 3932-S, Washington, DC 20250 or by facsimile to (202) 690-2746.

FOR FURTHER INFORMATION CONTACT: David Bowden, Chief, Standardization Branch, QAD, Livestock, Poultry, and Seed Program, Agricultural Marketing Service, U.S. Department of Agriculture, 1400 Independence Avenue SW., Stop 0258, Room 3932-S, Washington, DC 20250, by phone (202) 690-3148, or via email: David.Bowden@ams.usda.gov or Bucky Gwartney, Marketing Specialist, Standardization Branch, QAD, Livestock, Poultry, and Seed Program at (202) 720-1424 or via email: Bucky.Gwartney@ams.usda.gov.

SUPPLEMENTARY INFORMATION: The Agricultural Act of 2014 (2014 U.S. Farm Bill) directed the Secretary of Agriculture to establish, within USDA, a voluntary fee-based grading program for catfish. Section 203(c) of the Agricultural Marketing Act of 1946 (AMA) (7 U.S.C. 1621-1627) directs and authorizes the Secretary of Agriculture “to develop and improve standards of quality, condition, quantity, grade, and packaging, and recommend and demonstrate such standards in order to encourage uniformity and consistency in commercial practices.” USDA is committed to carrying out this authority in a manner that facilitates the marketing of agricultural products. One method of achieving this objective is through the development and maintenance of voluntary standards by AMS. AMS Livestock, Poultry, and Seed Program's QAD Standardization Branch develops and maintains product and carcass standards for many different protein commodities. The development of grade standards for catfish and catfish products will assist the USDA in meeting its obligations under the 2014 U.S. Farm Bill.

Background

Since 1987, the NMFS has administered and applied the U.S. Standards for Grades of North American Freshwater Catfish and Products Made Therefrom (http://www.seafood.nmfs.noaa.gov/pdfs/catfish.pdf). While NMFS has a rigorous grading system, it may not be as recognizable to consumers as USDA graded products and is not utilized widely in the catfish industry. The longstanding USDA commodity grade standards are recognized, understood, valued, and expected by the consuming public.

AMS voluntary grade standards exist for many commodities, including a wide range of fruits, vegetables, poultry, meat, shell eggs, dairy, cotton, and other agricultural commodities. The application of these grade standards in their respective industries allows for the segregation and differentiation of product in accordance with quality attributes. Furthermore, creation of a grade standard often leads to broader opportunities to develop branded products through AMS certification, which serves to expand the market for the particular commodity and allow for the marketing of premium products.

The purpose of this Notice is to identify what the industry requires and needs in a catfish quality standard. We are seeking any recent research, industry data, and background information that will assist in the possible revision of or development of new catfish quality standards. Specific information is needed about catfish products, including both domestically produced and imported catfish, and how quality standards would promote value differentiation and create more objective market signals up and down the product and processing chain. Product standards also assist producers, processors, and retail segments in making informed management and marketing decisions. Additionally, any information regarding the use of quality specifications for value differentiation would be helpful.

To assist AMS in the potential development of catfish grade standards, background information, comments, and data are requested concerning the following:

1. Is there a need for AMS to develop a new voluntary catfish grade standards? If yes:

a. What key components should be included in the new voluntary standards for grades of catfish and catfish products?

b. What catfish and catfish product factors are currently being used by catfish producers, processors, and marketers to determine value?

c. Should voluntary grade standards for catfish include both quality and cutability (yield) determinations?

d. Are there currently any established industry catfish and catfish products standards being used by producers, processors, or marketers that could be useful in developing new AMS catfish and catfish products grade standards?

e. What are the consumer's expectations of catfish quality and how should a standard reflect those expectations?

f. How many tiers or levels of quality and/or yield should a catfish standard set forth?

g. Are there any additional species of farm-raised fish or farm-raised shellfish that AMS should take into consideration for a voluntary grading program?

AMS is soliciting comments from stakeholders about whether changes in the catfish quality grade standards should be made, and if so, what specific changes should be made. If after analyzing the comments, AMS determines that changes are warranted, a notice will be published in the Federal Register proposing specific changes. Interested parties will have an opportunity to comment prior to a final decision adopting any changes.

Therefore, we request your input regarding any catfish and catfish products background information, technical data, or research that you think will assist us on this matter.

Dated: June 11, 2016.
Elanor Starmer,
Administrator, Agricultural Marketing Service.

[FR Doc. 2016-16703 Filed 7-13-16; 8:45 am]

BILLING CODE 3410-02-P